DEPARTMENT OF JUSTICE

Antitrust Division

Notice Pursuant to the National Cooperative Research and Production Act of 1993—XSEC Consortium

Notice is hereby given that, on October 1, 2003, pursuant to Section 6(a) of the National Cooperative Research and Production Act of 1993, 15 U.S.C. 4301 et seq. (“the Act”), XSEC Consortium has filed written notifications simultaneously with the Attorney General and the Federal Trade Commission disclosing (1) the identities of the parties and (2) the nature and objectives of the venture. The notifications were filed for the purpose of invoking the Act's provisions limiting the recovery of antitrust plaintiff to actual damages under specified circumstances. Pursuant to Section 6(b) of the Act, the identities of the parties are Varian Medical Systems, Inc., Mountain View, CA; and Palo Alto Research Center (PARC), Palo Alto, CA. The nature and objectives of the venture are to develop two types of novel, high performance, low cost x-ray detectors, first for diffraction scanning of checked bags for explosives and contraband, and second for computed tomography (CT) scanning of large seaborne cargo containers. The first type of detector will be a flat panel photoconductor x-ray detector of approximate area 5 cm x 25 cm capable of detecting individual x-ray photons and measuring their energy. These detectors will be used to build a subscale laboratory test apparatus for a diffraction-based explosive detector suitable for later scale-up to a size appropriate for airport screening of checked bags. The second type of detector will be a large area thin film transistor (TFT) panel detector for detecting the flux or x-ray photons incident upon it but without energy measurement capability. Here the requirement is to produce TFT panels at sufficiently low cost to enable very large detectors several meters in extent to be assembled for CT scanning of cargo containers. Jet printing techniques will be developed to enable wax masks to be used during fabrication of the TFT arrays to reduce their manufacturing cost.

Dorothy B. Fountain,
Deputy Director of Operations, Antitrust Division.

[FR Doc. 03-28283 Filed 11-10-03; 8:45 am]

BILLING CODE 4410-11-M